DEPARTMENT OF COMMERCE

National Oceanic and Atmospheric Administration

50 CFR Part 660

RIN 0648-BF15

Fisheries Off West Coast States; Comprehensive Ecosystem-Based Amendment 1; Amendments to the Fishery Management Plans for Coastal Pelagic Species, Pacific Coast Groundfish, U.S. West Coast Highly Migratory Species, and Pacific Coast Salmon

AGENCY: National Marine Fisheries Service (NMFS), National Oceanic and Atmospheric Administration (NOAA), Commerce.

ACTION: Notice of availability; request for comments.

SUMMARY: NMFS announces that the Pacific Fishery Management Council (Council) has submitted Comprehensive Ecosystem-Based Amendment 1 (CEBA 1) for Secretarial review. CEBA 1 would bring new ecosystem component species (collectively, “Shared EC Species”) into each of the Council's four fishery management plans (FMPs) through amendments to those FMPs, and would prohibit the future development of new directed commercial fisheries for Shared EC Species within the U.S. West Coast Exclusive Economic Zone (EEZ).

DATES: Comments on CEBA 1 must be received on or before February 9, 2016.

ADDRESSES: You may submit comments on CEBA 1, identified by NOAA-NMFS-2015-0123, by any of the following methods:

• Electronic Submission: Submit all electronic public comments via the Federal e-Rulemaking Portal. Go to www.regulations.gov/#!docketDetail;D=NOAA-NMFS-2015-0123, click the “Comment Now!” icon, complete the required fields, and enter or attach your comments.

• Mail: Submit written comments to William W. Stelle, Jr., Regional Administrator, West Coast Region, NMFS, 7600 Sand Point Way NE., Seattle, WA 98115-0070; Attn: Yvonne deReynier.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter“N/A” in the required fields if you wish to remain anonymous).

Electronic copies of CEBA 1 may be obtained from the Council Web site at http://www.pcouncil.org.

FOR FURTHER INFORMATION CONTACT: Yvonne deReynier, 206-526-6129, yvonne.dereynier@noaa.gov.

SUPPLEMENTARY INFORMATION: Ocean fisheries in the EEZ off Washington, Oregon, and California are managed under the CPS, Groundfish, HMS, and Salmon FMPs. CEBA 1 includes the following amendments to the Council's FMPs: Amendment 15 to the CPS FMP, Amendment 25 to the Pacific Coast Groundfish FMP, Amendment 3 to the FMP for U.S. West Coast HMS, and Amendment 19 to the Pacific Coast Salmon FMP. All FMPs are implemented under the authority of the Magnuson-Stevens Fishery Conservation and Management Act (MSA), 16 U.S.C. 1801 et seq., by regulations at 50 CFR part 660. The MSA requires that each regional fishery management council submit any FMP or amendment to NMFS for review and approval, partial approval, or disapproval. The MSA also requires that NMFS, upon receiving a plan or amendment, publish an announcement in the Federal Register notifying the public that the plan or amendment is available for review and comment. NMFS will consider the public comments received during the comment period described above in determining whether to approve the FMP amendments that would implement CEBA 1.

Background

The Council maintains a Fishery Ecosystem Plan, which includes an ecosystem initiative process for reviewing fisheries management issues that may affect multiple FMPs and for developing policies and regulations to address those issues under the authority of its FMPs. Under the ecosystem initiative process, the Council has reviewed trophic connections between the West Coast EEZ's unfished forage fish species and the EEZ's predator species managed under the MSA, the Endangered Species Act, the Marine Mammal Protection Act, and the Migratory Bird Treaty Act. Through that review, the Council determined that it wanted to bring a suite of unfished and unmanaged forage fish species into its FMPs as ecosystem component (EC) species, and to prohibit directed commercial fisheries for those species.

The Council has recommended including the following species as Shared EC Species in all four of its FMPs: Round herring (Etrumeus teres) and thread herring (Opisthonema libertate and O. medirastre); mesopelagic fishes of the families Myctophidae, Bathylagidae, Paralepididae, and Gonostomatidae; Pacific sand lance (Ammodytes hexapterus); Pacific saury (Cololabis saira); silversides (family Atherinopsidae); smelts of the family Osmeridae; and pelagic squids (families: Cranchiidae, Gonatidae, Histioteuthidae, Octopoteuthidae, Ommastrephidae except Humboldt squid (Dosidicus gigas), Onychoteuthidae, and Thysanoteuthidae). Under Federal regulations at 50 CFR 600.310(d)(5)(iii), a species may be included in an FMP as an EC species: For data collection purposes; to inform the understanding of ecosystem considerations related to specification of OY for the associated fishery; to assist in the development of conservation and management measures for the associated fishery; or to address other ecosystem issues. The Council recommended including the suite of Shared EC Species in its FMPs as EC species to address “other ecosystem issues,” because these species are broadly used as prey by marine mammals, seabird, and fish of the U.S. West Coast EEZ. The Council also noted that Shared EC Species are among the known prey of fishery management unit species of all four of the Council's FMPs; therefore, Shared EC Species support predator species' growth and development and may also be identified as EC species “for ecosystem considerations related to specification of optimum yield for the associated fishery.”

CEBA 1, through its implementing FMP amendments and regulations, would prohibit the future development of fisheries for Shared EC Species within the U.S. West Coast EEZ until the Council has had an adequate opportunity to assess the scientific information relating to any proposed directed fishery and to consider potential impacts to existing fisheries, fishing communities, and the greater marine ecosystem. The Council deemed this action necessary to proactively protect unmanaged, unfished forage fish of the U.S. West Coast EEZ, in recognition of the importance of these forage fish to the species managed under the Council's FMPs and to the larger California Current Ecosystem. This action would not supersede tribal or state fishery management for these species.

Consideration of Public Comments

NMFS welcomes comments on CEBA 1 and the proposed FMP amendments through the end of the comment period. CEBA 1 is available on the Council's Web site (www.pcouncil.org). The Council also transmitted a proposed rule to implement CEBA 1 for Secretarial review and approval. NMFS expects to publish and request public review and comment on that rule in the near future. Public comments on the proposed rule must be received by the end of the comment period for CEBA 1 in order to be considered in the approval/disapproval decision on the FMP amendments. All comments received by the end of the CEBA 1 comment period, whether specifically directed to the FMP amendments or the proposed rule, will be considered in the approval/disapproval decision.

Authority: 16 U.S.C. 1801 et seq.

Dated: December 8, 2015.
Alan D. Risenhoover,
Director, Office of Sustainable Fisheries, National Marine Fisheries Service.

[FR Doc. 2015-31236 Filed 12-10-15; 8:45 am]

BILLING CODE 3510-22-P